DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Evaluation of Strategic Prevention Framework State Incentive Grant (SPF SIG) Program (OMB No. 0930-0279) Revision

SAMHSA's Center for Substance Abuse Prevention (CSAP) is responsible for the evaluation instruments of the Strategic Prevention Framework State Incentive Grant (SPF SIG) Program. The program is a major initiative designed to: (1) Prevent the onset and reduce the progression of substance abuse, including childhood and underage drinking; (2) reduce substance abuse related problems; and, (3) build prevention capacity and infrastructure at the State-, territorial-, tribal- and community-levels.

Five Steps Comprise the SPF

Step 1: Profile population needs, resources, and readiness to address the problems and gaps in service delivery.

Step 2: Mobilize and/or build capacity to address needs.

Step 3: Develop a comprehensive strategic plan.

Step 4: Implement evidence-based prevention programs, policies, and practices and infrastructure development activities.

Step 5: Monitor process, evaluate effectiveness, sustain effective programs/activities, and improve or replace those that fail.

An evaluation team is currently implementing a multi-method, quasi-experimental evaluation of the first two Strategic Prevention Framework State Incentive Grant (SPF SIG) cohorts receiving grants in FY 2004 and FY 2005. This notice invites comments for revision to the protocol for the ongoing cross-site evaluation for the Strategic Prevention Framework State Incentive Grant (SPF SIG) (OMB No. 0930-0279) which expires on 09/30/09. This revision includes two parts:

(1) Continuation of the use of the previously approved two-part Community Level Instrument (CLI parts I and II) for Cohorts I and II.

(2) The use of three additional instruments to support the SPF SIG Cohorts III and IV Cross-site Evaluation. All three instruments are modified versions of data collection protocols used by Cohorts I and II. The three instruments are:

a. A Grantee-Level SPF Implementation Instrument,

b. A Grantee-Level Infrastructure Instrument, and

c. A two-part Community-Level SPF Implementation Instrument.

An additional Cohort III and IV evaluation component (i.e., participant-level NOMs outcomes) is also included in this submission as part of the comprehensive evaluation, however, no associated burden from this evaluation activity is being imposed and therefore clearance to conduct the activities is not being requested. Specifically, Cohort III and IV SPF SIG grantees have been included in the currently OMB approved umbrella NOMs application (OMB No. 0930-0230) covering the collection of participant-level NOMs outcomes by all SAMHSA/CSAP grantees.

Every attempt has been made to make the evaluation for Cohorts III and IV comparable to Cohorts I and II. This notification reflects some streamlining of the original evaluation design. The primary evaluation objective is to determine the impact of SPF SIG on the reduction of substance abuse related problems, on building State prevention capacity and infrastructure, and preventing the onset and reducing the progression of substance abuse, as measured by the SAMHSA National Outcomes Measures (NOMs). Data collected at the grantee, community, and participant levels will provide information about process and system outcomes at the grantee and community levels as well as context for analyzing participant-level NOMS outcomes. The Grantee-Level Infrastructure and Implementation Instruments (Cohorts III and IV) and the Community-Level part I and part II (Cohorts I, II, III, and IV) Instruments are included in an OMB review package and are the main focus of this announcement.

Grantee-Level Data Collection (Cohort III and IV Revision)

Two Grantee-level Instruments (GLI) were developed to gather information about the infrastructure of the grantee's overall prevention system and collect data regarding the grantee's efforts and progress in implementing the Strategic Prevention Framework 5-step process. Both instruments are modified versions of the grantee-level interview protocols used in the SPF SIG Cohort I and II Cross-Site Evaluation (OMB No. 0930-0279). The total burden imposed by the original interview protocols has been reduced by restructuring the format of the original protocol, deleting several questions and replacing the majority of open-ended questions with multiple-choice-response questions. The Infrastructure Instrument will capture data to assess infrastructure change and to test the relationship of this change to outcomes. The Strategic Prevention Framework Implementation Instrument will be used to assess the relationship between SPF implementation and change in the NOMs. Information for both surveys will be gathered by the grantees' evaluators twice over the life of the SPF SIG award.

Based on the current 16 grantees funded in Cohort III and an estimated 20 to be funded in Cohort IV the estimated annual burden for grantee-level data collection is displayed below in Table 1. The burden estimates for the GLIs are based on the experience in the Cohort I and II SPF SIG evaluation as reported in the original OMB submission (OMB No. 0930-0279), less the considerable reduction in length of these instruments implemented by the Cohort III and IV evaluation team.

Community-Level Data Collection (Continuation and Revision)

Cohort I and II Continuation

The Community-level Instrument (CLI) is a two part, Web-based survey for capturing information about SPF SIG implementation at the community level (originally submitted as an addendum to OMB No. 0930-0279). Part I of this instrument was developed to assess the progress of communities as they implement the Strategic Prevention Framework (SPF), and part II was developed to gather descriptive information about the specific interventions being implemented at the community level and the populations being served including the gender, age, race, ethnicity, and number of individuals in target populations. Each SPF SIG funded community will complete a separate part II form for each intervention they implement.

The CLI (parts I and II) was designed to be administered two times a year (every six months) over the course of the SPF SIG Cohort I and II initiative. Four rounds of data are being collected under the current OMB approval period and the Cohorts I and II cross-site evaluation team plans to collect additional rounds once this request for a revision is approved. Data from this instrument will allow CSAP to assess the progress of the communities in their implementation of both the SPF and prevention-related interventions funded under the initiative. The data may also be used to assess obstacles to the implementation of the SPF and prevention-related interventions and facilitate mid-course corrections for communities experiencing implementation difficulties.

The estimated annual burden for community-level data collection is displayed below in Table 1. Note that the total burden reflects the 359 communities that have received SPF funds from their respective Cohort I States and 86 communities that have received SPF funds from their respective Cohort II States. Burden estimates are based on pilot respondents' feedback as well as the experience of the survey developers reported in the original OMB submission (OMB No. 0930-0279). Additionally, an individual community's burden may be lower than the burden displayed in Table 1 because all sections of the Community-level Instrument (parts I and II) may not apply for each reporting period as community partners work through the SPF steps and only report on the step-related activities addressed. Note also that some questions will be addressed only once and the responses will be used to pre-fill subsequent surveys.

Cohort III and IV Revision

The Community-Level Instrument to be completed by Cohort III and IV funded subrecipient communities is a modified version of the one in use in the SPF SIG Cohorts I and II Cross-Site Evaluation (OMB No. 0930-0279). The total burden imposed by the original instrument was reduced by reorganizing the format of the original instrument, optimizing the use of skip patterns, and replacing the majority of open-ended questions with multiple-choice-response questions.

Part I of the instrument will gather information on the communities' progress implementing the five SPF SIG steps and efforts taken to ensure cultural competency throughout the SPF SIG process. Subrecipient communities receiving SPF SIG awards will be required to complete part I of the instrument annually. Part 2 will capture data on the specific prevention intervention(s) implemented at the community level. A single prevention intervention may be comprised of a single strategy or a set of multiple strategies. A part II instrument will be completed for each prevention intervention strategy implemented during the specified reporting period. Specific questions will be tailored to match the type of prevention intervention strategy implemented (e.g., Prevention Education, Community-based Processes, and Environmental). Information collected on each strategy will include date of implementation, numbers of groups and participants served, frequency of activities, and gender, age, race, and ethnicity of population served/affected. Subrecipient communities' partners receiving SPF SIG awards will be required to update part II of the instrument a minimum of every six months.

The estimated annual burden for specific segments of the community-level data collection is displayed in Table 1. The burden estimates for the CLIs are based on the experience in the Cohort I and II SPF SIG evaluation as reported in the original OMB submission (OMB No. 0930-0279), less the considerable reduction in length of these instruments implemented by the Cohort III and IV evaluation team. The total burden assumes an average of 15 community-level subrecipients per grantee (n=36 Grantees) for a total of 540 community respondents, annual completion of the CLI part I, a minimum of two instrument updates per year for the CLI part II, and an average of three distinct prevention intervention strategies implemented by each community during a 6-month period. Additionally, some questions will be addressed only once and the responses will be used to pre-fill subsequent updates.

Participant-Level Data Collection (Cohort III and IV—New)

Participant-level change will be measured using the CSAP NOMs Adult and Youth Programs Survey Forms already approved by OMB (OMB No. 0930-0230). Subrecipient communities will have the opportunity to select relevant measures from the CSAP NOMs Adult and Youth Programs Survey Forms based on site-specific targeted program outcomes and may voluntarily select additional outcome measures that are relevant to their own initiatives. Cohort III and IV SPF SIG grantees have been included in the currently OMB approved umbrella NOMs application (OMB No. 0930-0230) covering all SAMHSA/CSAP grantees, therefore no additional burden for this evaluation activity is being imposed and clearance to conduct the activities is not being requested.

Total Estimates of Annualized Hour Burden

Estimates of total and annualized reporting burden for respondents by evaluation cohort are displayed below in Table 1. The estimated average annual burden of 5,620.8 hours is based on the completion of the Community Level-Instrument (CLI parts I and II) for Cohorts I and II and the Grantee-level Instruments (GLI) and the Community-Level Instrument (CLI) for Cohorts III and IV.

Table 1—Estimates of Annualized Hour Burden to Respondents
Instrument type | Respondent | Burden per response (hrs.) | No. of respondents | No. of responses per respondent | Total burden (hrs.)
Grantee-Level Burden Cohort 1
Total/Average Burden Over 1 Reporting Year | Grantee | 1 | 21 | 2 | 42
Community-Level Burden Cohort 1
CLI Part 1 | Community | 2.17 | 359 | 2 | 1,558.0
CLI Part 2 | Community | 2.17 | 359 | 6 | 4,674.2
Review of Past Responses | Community | 2.5 | 359 | 2 | 1,795.0
Total/Average Burden Over 1 Reporting Year | Community |  |  |  | 8,027.2
Grantee-Level Burden Cohort 2
Total Burden Over 2 Reporting Years | Grantee | 1 | 5 | 4 | 20
Average Annual Burden | Grantee |  |  |  | 10
Community-Level Burden Cohort 2
CLI Part 1 | Community | 2.17 | 86 | 4 | 746.5
CLI Part 2 | Community | 2.17 | 86 | 12 | 2,239.4
Review of Past Responses | Community | 2.5 | 86 | 4 | 860.0
Total Burden Over 2 Reporting Years | Community |  |  |  | 3,845.9
Average Annual Burden | Community |  |  |  | 1,923.0
Total Burden Cohorts 1 and 2
Total Burden Over 2 Reporting Years | Grantee |  |  |  | 62
Community |  |  |  |  | 11,873.1
Average Annual Burden | Grantee |  |  |  | 31
Community |  |  |  |  | 5,936.6
Grantee-Level Burden Cohorts 3 and 4
GLI Infrastructure & Implementation Instruments (Reporting Years 1-4) | Grantee | 4.75 | 36 | 2 | 342.0
CLI Part I, 1-20: Community Contact Information (Reporting Year 1) | Grantee | 1.5 | 36 | 1 | 54.0
CLI Part I, 1-20: Community Contact Information (Reporting Years 2-4) | Grantee | 0.25 | 36 | 3 | 27.0
Total Burden Over 4 Reporting Years | Grantee |  |  |  | 423.0
Average Annual Burden | Grantee |  |  |  | 105.75
Community-Level Burden Cohorts 3 and 4
CLI Part I, 21-172: Community SPF Activities (Reporting Year 1) | Community | 3 | 540 | 1 | 1620.0
CLI Part II (Reporting Year 1) | Community | 0.75 | 540 | 6 | 2,430.0
CLI Part I, 21-172: Community SPF Activities (Reporting Years 2-4) | Community | 0.75 | 540 | 3 | 1,215
CLI Part II (Reporting Years 2-4) | Community | 0.5 | 540 | 18 | 4,860.0
Total burden Over 4 Reporting Periods | Community |  |  |  | 10,125.0
Average Annual Burden | Community |  |  |  | 2,531.25
Total Burden All Cohorts
Total Burden Over 4 Reporting Years | Grantee |  |  |  | 485.0
| Community |  |  |  | 21,998.1
Average Annual Burden | Grantee |  |  |  | 121.3
| Community |  |  |  | 5,499.6
| Overall |  |  |  | 5,620.8

Written comments and recommendations concerning the proposed information collection should be sent by September 11, 2009 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: August 6, 2009.
Elaine Parry,
Director, Office of Program Services.

[FR Doc. E9-19291 Filed 8-11-09; 8:45 am]

BILLING CODE 4162-20-P